DEPARTMENT OF JUSTICE

Antitrust Division

Notice Pursuant to the National Cooperative Research and Production Act of 1993—NIST Tip Joint Venture on Cyber-Enabled Smart Infrastructure

Notice is hereby given that, on February 27, 2009, pursuant to Section 6(a) of the National Cooperative Research and Production Act of 1993, 15 U.S.C. 4301 et seq. (“the Act”), NIST TIP Joint Venture on Cyber-enabled Smart Infrastructure (“CSI”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: The Regents of the University of Michigan, Ann Arbor, MI; SC Solutions, Sunnyvale, CA; Weidlinger Associates, Inc., New York, NY; Li, Fisher, Lepech & Associates, Ann Arbor, MI; Monarch Antenna, Inc., Ann Arbor, MI; and Prospect Solutions, LLC, Loudonville, NY. The general area of CSI's planned activity is to conduct research to formulate and demonstrate a cost effective, cyber-enabled comprehensive structural monitoring system assembled from transformative sensor technologies to detect and analyze bridge health.

Patricia A. Brink,
Deputy Director of Operations, Antitrust Division.

[FR Doc. E9-7365 Filed 4-2-09; 8:45 am]

BILLING CODE 4410-11-M